DEPARTMENT OF ENERGY

Federal Energy Regulatory Commission

[Docket No. RP00-484-001]

Wyoming Interstate Company, Ltd; Notice of Compliance Filing

November 7, 2001.

Take notice that on November 5, 2001, Wyoming Interstate Company, Ltd. (WIC) tendered for filing the pro forma tariff sheets listed on the Appendix, attached to the filing.

WIC states that it is submitting the filing in order to conform the pro forma tariff sheets included in its Order No. 637 compliance filing, where applicable, to reflect the same or similar terms and conditions of service as were included in Colorado Interstate Gas Company's Order No. 637 compliance filing for its Wyoming system.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-28480 Filed 11-13-01; 8:45 am]

BILLING CODE 6717-01-P